DEPARTMENT OF DEFENSE

Department of the Army; Army Corps of Engineers

Notice of Intent To Prepare an Environmental Impact Statement/Environmental Impact Report for Natomas Levee Improvement Program Phase 3 Landside Improvements Project, Sacramento, CA

AGENCY: Department of the Army, U.S. Army Corps of Engineers; DoD.

ACTION: Notice of intent.

SUMMARY: The action being taken is preparation of an environmental impact statement/environmental impact report (EIS/EIR) for the Natomas Levee Improvement Program (NLIP) Phase 3 Landside Improvements Project. The Corps is considering a request to issue both 408 permission to the Central Valley Flood Protection Board and 404 permit to Sacramento Area Flood Control Agency (SAFCA) for work on the NLIP. Under 33 U.S.C. 408, the Chief of Engineers may grant permission to alter an existing Federal project if it is not injurious to the public interest and does not impair the usefulness of the project. Under Section 404 of the Clean Water Act, the District Engineer permits the discharge of dredged or fill material into waters of the United States if the discharge meets the requirements of the Environmental Protection Agency's 404 (b)(1) guidelines and is not contrary to the public interest. The NLIP is located in Sacramento and Sutter Counties, CA. The 408 permission and 404 permit are needed for construction along the landside of the Sacramento River east levee, the Natomas East Main Drain Canal, the Natomas Cross Canal, and the Pleasant Grove Creek Canal.

DATES: A public scoping meeting will be held on August 6, 2008 from 4 p.m. until 7 p.m. at Sierra Health Facility (see ADDRESSES). Send written comments by August 18, 2008 to (see ADDRESSES).

ADDRESSES: Public Scoping Meeting, Sierra Health, 1321 Garden Highway, Bannon Island room, Sacramento, CA. Send written comments and suggestions concerning this study to Ms. Elizabeth Holland, U.S. Army Corps of Engineers, Sacramento District, Attn: Planning Division (CESPK-PD-R), 1325 J Street, Sacramento, CA 95814-2922. Requests to be placed on the mailing list should also be sent to this address.

FOR FURTHER INFORMATION CONTACT: Questions about the proposed action and EIS/EIR should be addressed to Ms. Elizabeth Holland at (916) 557-6763, e-mail Elizabeth.g.holland@usace.army.mil or by mail (see ADDRESSES).

SUPPLEMENTARY INFORMATION: 1. Proposed Action. The U.S. Army Corps of Engineers is preparing an EIS/EIR to analyze the impacts of the work proposed by SAFCA to implement the NLIP Phase 3. The NLIP Phase 3 is proposed by SAFCA to reduce the risk of flooding to portions of the City and County of Sacramento and Sutter County, CA lying within the Natomas Basin.

2. Alternatives. The EIS/EIR will address an array of flood risk management alternatives. Alternatives analyzed during the investigation will consist of a combination of one or more flood protection measures. These measures include raising the existing levee in place, constructing seepage berms, constructing adjacent setback levees, installing seepage wells and seepage cutoff walls, and relocating irrigation ditches.

3. Scoping Process. a. A public scoping meeting will be held on August 6, 2008 to present information to the public and to receive comments from the public. This meeting will begin a process to involve concerned individuals, and local, State, and Federal agencies.

b. Significant issues to be analyzed in depth in the EIS/EIR include effects on hydraulic, wetlands and other waters of the U.S., vegetation and wildlife resources, special-status species, cultural resources, land use, fisheries, water quality, air quality, transportation, and socioeconomics. The EIS/EIR will also evaluate the cumulative effects of the proposed NLIP and other related projects in the study area.

c. The Corps is consulting with the State Historic Preservation Officer to comply with the National Historic Preservation Act, and with the U.S. Fish and Wildlife Service to provide a Fish and Wildlife Coordination Act Report.

d. A 45-day public review period will be provided for individuals and agencies to review and comment on the draft EIS/EIR. All interested parties are encouraged to respond to this notice and provide a current address if they wish to be notified of the draft EIS/EIR circulation.

4. Availability. The draft EIS/EIR is scheduled to be available for public review and comment in late 2008.

Dated: July 9, 2008
Thomas Chapman,
P.E., COL, EN, Commanding.

[FR Doc. E8-16445 Filed 7-17-08; 8:45 am]

BILLING CODE 3710-EZ-P